DEPARTMENT OF ENERGY

Office of Energy Efficiency and Renewable Energy

Public Hearing on The Navajo Nation Tribal Government Weatherization Assistance Program

AGENCY: Office of Energy Efficiency and Renewable Energy, Department of Energy (DOE).

ACTION: Notice of public administrative review hearing.

SUMMARY: The Department of Energy (DOE) is announcing an “Administrative Review Hearing on The Navajo Nation Tribal Government Weatherization Assistance Program.” The Navajo Nation Tribal Government requested this administrative review hearing to review DOE's decision to cancel negotiations for financial assistance award #DE-EE0007932 and future DOE Weatherization Assistance Program (WAP) financial assistance awards to The Navajo Nation Tribal Government.

DATES: The administrative review hearing will be held on Tuesday, August 22, 2017, from 10:00 a.m. to 12:00 p.m. Mountain Time.

ADDRESSES: The administrative review hearing will be held at the Department of Energy's Golden Field Office on the National Renewable Energy Laboratory (NREL) campus, 15013 Denver West Parkway, Golden, CO 80401, RSF Building. Attendees must check in at the Main (East) NREL Gate which is 15031 Denver West Parkway (for GPS purposes use this Main Gate address), park in the Visitor lot and proceed to the reception desk in the RSF Building main lobby. After they are checked in and given a visitor badge, the host will be called to come get them.

FOR FURTHER INFORMATION CONTACT: Questions may be directed to Erica Burrin at 202-280-9863 or by email at erica.burrin@ee.doe.gov.

SUPPLEMENTARY INFORMATION: Purpose of the Hearing: DOE has determined that The Navajo Nation Tribal Government is noncompliant with the requirements of the DOE Weatherization Assistance Program (WAP). The purpose of this hearing is to review DOE's decision to cancel negotiations for financial assistance award #DE-EE0007932 and future DOE WAP financial assistance awards to The Navajo Nation Tribal Government.

Public Participation: Registration is free and available on a first-come, first-served basis. Persons interested in attending this hearing must notify Erica Burrin via email to erica.burrin@ee.doe.gov by 4 p.m. Eastern Time, Tuesday, August 8, 2017. Early registration is recommended because facilities are limited and, therefore, DOE may limit the number of participants from each organization. If you need special accommodations due to a disability, please include that information in your registration request email. Registrants will receive email confirmation after they have been accepted.

Please note that foreign nationals visiting DOE facilities are subject to advance security screening procedures. Any foreign national wishing to participate in the hearing should advise Erica Burrin at erica.burrin@ee.doe.gov as soon as possible to initiate the necessary procedures. Anyone attending the hearing will be required to present a government photo identification, such as a passport, driver's license, or government identification. Due to the required security screening upon entry, individuals attending should arrive early to allow for the extra time needed.

Due to the REAL ID Act implemented by the Department of Homeland Security (DHS), recent changes have been enacted regarding ID requirements for individuals wishing to enter Federal buildings from specific states and U.S. territories. Driver's licenses (and ID cards) from the following states or territories will not be accepted for building entry and one of the alternate forms of ID listed below will be required: Alaska, Louisiana, New York, American Samoa, Maine, Oklahoma, Arizona, Massachusetts, Washington, and Minnesota.

Acceptable alternate forms of Photo-ID include: U.S. Passport or Passport Card; an Enhanced Driver's License or Enhanced ID-Card issued by the states of Minnesota, New York or Washington (Enhanced licenses issued by these states are clearly marked Enhanced or Enhanced Driver's License); a military ID or other Federal government issued Photo-ID card.

Issued in Washington, DC on July 6, 2017.
Erica Burrin,
Managing Team Lead.

[FR Doc. 2017-14601 Filed 7-11-17; 8:45 am]

BILLING CODE 6450-01-P